EQUAL EMPLOYMENT OPPORTUNITY COMMISSION

Sunshine Act Meeting

Date and Time: Tuesday, February 19, 2008, 10:30 a.m. Eastern Time.

Place: Clarence M. Mitchell, Jr. Conference Room on the Ninth Floor of the EEOC Office Building, 1801 “L” Street, NW., Washington, DC 20507.

Status: The meeting will be open to the public.

Matters to be Considered: Open Session:

1. Announcement of Notation Votes, and

2. Obligation of Funds for a Temporary Interactive Voice Response/Automatic Call Distribution (IVR/ACD) Non-competitive Hosting Contract and a Competitive Contract for Technology Support of Customer Response Function.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. The EEOC provides sign language interpretation at Commission meetings for the hearing impaired. Requests for other reasonable accommodations may be made by using the voice and TTYnumbers listed above. Contact Person for More Information: Stephen Llewellyn, Executive Officer on (202) 663-4070.

Dated: February 8, 2008.
Stephen Llewellyn,
Executive Officer, Executive Secretary.

[FR Doc. 08-653 Filed 2-8-08; 1:43 pm]

BILLING CODE 6570-01-M